DEPARTMENT OF COMMERCE

International Trade Administration

[A-523-812]

Circular Welded Carbon-Quality Steel Pipe From the Sultanate of Oman: Preliminary Results of Antidumping Duty Administrative Review; Deferred 2019-2020 Period and Concurrent 2020-2021 Period

AGENCY: Enforcement and Compliance, International Trade Administration, Department of Commerce.

SUMMARY: The U.S. Department of Commerce (Commerce) preliminarily finds that circular welded carbon-quality steel pipe (CWP) from the Sultanate of Oman (Oman) was sold in the United States at less than normal value (NV) during the period of review (POR), December 1, 2019, through November 30, 2020, and the POR, December 1, 2020, through November 30, 2021. Interested parties are invited to comment on these preliminary results.

DATES: Applicable December 28, 2022.

FOR FURTHER INFORMATION CONTACT: Samuel Glickstein or Dennis McClure, AD/CVD Operations, Office VIII, Enforcement and Compliance, International Trade Administration, U.S. Department of Commerce, 1401 Constitution Avenue NW, Washington, DC 20230; telephone: (202) 482-5307 or (202) 482-5973, respectively.

SUPPLEMENTARY INFORMATION:

Background

In accordance with section 751(a)(2) of the Tariff Act of 1930, as amended (the Act), Commerce is conducting an administrative review of the antidumping duty order on CWP from Oman.¹ On February 4, 2021, Commerce published the initiation of the 2019-2020 administrative review of the Order with respect to three companies, excluding Al Jazeera Steel Products Co. SAOG (Al Jazeera).² Pursuant to 19 CFR 351.213(c), Commerce received a request from Al Jazeera Steel Products Co. SAOG (Al Jazeera) to defer the 2019-2020 administrative review with respect to itself for one year.³ Commerce did not receive any objections to the deferral within 15 days after the end of the December 2020 anniversary month. As such, we deferred the initiation of the administrative review for the 2019-2020 POR with respect to Al Jazeera to the month immediately following the next anniversary month.⁴ On February 4, 2022, in accordance with 19 CFR 351.221(c)(1)(i), Commerce published its initiation of an administrative review of the Order for the 2019-2020 POR with respect to Al Jazeera.⁵ On the same day, Commerce also published its initiation of a review of the Order for the 2020-2021 POR covering four exporters/producers,⁶ of which we selected Al Jazeera as the mandatory respondent.⁷

¹ See Circular Welded Carbon-Quality Steel Pipe from the Sultanate of Oman, Pakistan, and the United Arab Emirates: Amended Final Affirmative Antidumping Duty Determination and Antidumping Duty Orders, 81 FR 91906 (December 19, 2016) (Order).

² These three companies are: Al Samna Metal Manufacturing & Trading Company LLC (Al Samna); Bollore Logistics (Oman) LLC (Bollore Logistics); and Transworld Shipping Trading & Logistics Services LLC (Transworld Shipping). See Initiation of Antidumping and Countervailing Duty Administrative Reviews, 86 FR 8166 (February 4, 2021) (February 2021 Initiation Notice). On March 9, 2021, Commerce rescinded the administrative review for the 2019-2020 POR with respect to these companies. See Circular Welded Carbon-Quality Steel Pipe from Oman: Rescission of Antidumping Duty Administrative Review; 2019-2020, 86 FR 13525 (March 9, 2021) (CWP from Oman Rescission).

³ Id. at Footnote 12.

⁴ See Initiation of Antidumping and Countervailing Duty Administrative Reviews, 87 FR 6487 (February 4, 2022) (February 2022 Initiation Notice), at fn. 6.

⁵ See February 2022 Initiation Notice.

⁶ The four companies are: Al Jazeera; Al Samna; Bollore Logistics; and Transworld Shipping. See February 2022 Initiation Notice.

⁷ See Memorandum, “Respondent Selection,” dated March 7, 2022.

On August 17, 2022, we extended the deadline for the preliminary results of this review until December 21, 2022.⁸ For a complete description of the events between the initiation of this review and these preliminary results, see the Preliminary Decision Memorandum.⁹

⁸ See Memorandum, “Extension of Deadline for Preliminary Results of Antidumping Duty Administrative Review,” dated August 17, 2022.

⁹ See Memorandum, “Circular Welded Carbon-Quality Steel Pipe from the Sultanate of Oman: Decision Memorandum for the Preliminary Results of Antidumping Duty Administrative Review; Deferred 2019-2020 Period and Concurrent 2020-2021 Period,” dated concurrently with, and hereby adopted by, this notice (Preliminary Decision Memorandum).

Scope of the Order

The merchandise subject to the Order is CWP from Oman. For a complete description of the scope of the Order, see the Preliminary Decision Memorandum.¹⁰

¹⁰ Id. at “Scope of the Order.”

Methodology

Commerce is conducting this review in accordance with section 751(a) of the Act. Export price is calculated in accordance with section 772 of the Act. NV is calculated in accordance with section 773 of the Act.

For a full description of the methodology underlying these preliminary results, see the Preliminary Decision Memorandum. A list of topics discussed in the Preliminary Decision Memorandum is attached as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade/gov/public/FRNoticesListLayout.aspx.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy less-than-fair-value (LTFV) investigation, for guidance when determining the rate for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

For the 2020-2021 POR, we have preliminarily calculated a weighted-average dumping margin for Al Jazeera that is not zero, de minimis, or determined entirely on the basis of facts available. Accordingly, Commerce has preliminarily assigned to companies not individually examined for the 2020-2021 POR a margin of 2.37 percent, which is Al Jazeera's calculated weighted-average dumping margin for the 2020-2021 POR in this administrative review.

Preliminary Results

Commerce preliminarily determines that the following estimated weighted-average dumping margins exist for the periods December 1, 2019, through November 30, 2020, and December 1, 2020, through November 30, 2021:

Exporter/producer | Weighted- average dumping margin for December 1, 2019 to November 30, 2020 POR (percent) | Weighted- average dumping margin for December 1, 2020 to November 30, 2021 POR (percent)
Al Jazeera Steel Products Co. SAOG | 4.61 | 2.37
Al Samna Metal Manufacturing & Trading Company LLC ¹¹ | Not Applicable | 2.37
Bollore Logistics (Oman) LLC ¹² | Not Applicable | 2.37
Transworld Shipping Trading & Logistics Services LLC ¹³ | Not Applicable | 2.37

Disclosure and Public Comment

¹¹ As noted above, on March 9, 2021, Commerce rescinded the administrative review for the 2019-2020 POR for this company. See CWP from Oman Rescission, 86 FR at 13525.

¹² Id.

¹³ Id.

We intend to disclose the calculations performed for these preliminary results of review to interested parties within five days of the date of publication of this notice in accordance with 19 CFR 351.224(b). Interested parties may submit case briefs no later than 30 days after the date of publication of this notice.¹⁴ Rebuttal briefs, the content of which is limited to the issues raised in the case briefs, must be filed within seven days from the deadline date for the submission of case briefs.¹⁵ Parties who submit case or rebuttal briefs in this proceeding are requested to submit with each argument: (1) a statement of the issue; (2) a brief summary of the argument; and (3) a table of authorities.¹⁶ Case and rebuttal briefs should be filed electronically via ACCESS. Note that Commerce has temporarily modified certain of its requirements for serving documents containing business proprietary information, until further notice.¹⁷

¹⁴ See 19 CFR 351.309(c)(1)(ii).

¹⁵ See 19 CFR 351.309(d)(1) and (2); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”)

¹⁶ See 19 CFR 351.309(c)(2) and (d)(2).

¹⁷ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.¹⁸ Hearing requests should contain: (1) the party's name, address, and telephone number; (2) the number of participants; (3) whether any participant is a foreign national, and (4) a list of issues to be discussed. Issues raised in the hearing will be limited to issues raised in the briefs. If a request for a hearing is made, Commerce intends to hold the hearing at a time and date to be determined.¹⁹

¹⁸ See 19 CFR 351.310(c).

¹⁹ Id.

Commerce intends to issue the final results of this administrative review, including the results of its analysis raised in any written briefs, no later than 120 days after the publication of these preliminary results in the Federal Register, unless this deadline is otherwise extended.²⁰

²⁰ See section 751(a)(3)(A) of the Act; see also 19 CFR 351.213(h).

Assessment Rates

Upon completion of this administrative review, Commerce shall determine and U.S. Customs and Border Protection (CBP) shall assess antidumping duties on all appropriate entries for the 2019-2020 POR and the 2020-2021 POR, at the applicable ad valorem assessments rates listed for the corresponding review period. If Al Jazeera's weighted-average dumping margin is not zero or de minimis (i.e., less than 0.50 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific assessment rate is zero or de minimis, we will instruct CBP to liquidate the appropriate entries without regard to antidumping duties.

Commerce clarified its “automatic assessment” regulation on May 6, 2003.²¹ This clarification applies to entries of subject merchandise during the 2019-2020 POR and the 2020-2021 POR produced by Al Jazeera for which it did not know its merchandise was destined for the United States. In such instances, we will instruct CBP to liquidate unreviewed entries at the all-others rate if there is no rate for the intermediate company(ies) involved in the transaction. For the companies which were not selected for individual examination in the 2020-2021 POR, we intend to assign an assessment rate based on the methodology described in the “Rate for Non-Examined Companies” section above.

²¹ For a full discussion of this clarification, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of this administrative review, as provided by section 751(a)(2)(C) of the Act: (1) the cash deposit rate for each company listed above will be equal to the weighted-average dumping margin established in the final results of this review for the 2020-2021 POR, except, if that rate is de minimis, then the cash deposit rate will be zero; (2) for previously reviewed or investigated companies not listed in the final results of this review, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 7.36 percent that was established in the LTFV investigation.²² These cash deposit requirements, when imposed, shall remain in effect until further notice.

²² See Order, 81 FR at 91908.

Notification to Importers

This notice serves as a preliminary reminder to importers of their responsibility under 19 CFR 351.402(f)(2) to file a certificate regarding the reimbursement of antidumping duties prior to liquidation of the relevant entries during the 2019-2020 POR and the 2020-2021 POR. Failure to comply with this requirement could result in Commerce's presumption that reimbursement of antidumping duties occurred and the subsequent assessment of double antidumping duties.

Notification to Interested Parties

We are issuing and publishing this notice in accordance with sections 751(a)(1) and 777(i)(1) of the Act, and 19 CFR 351.213 and 351.221(b)(4).

Dated: December 20, 2022.
Lisa W. Wang,
Assistant Secretary for Enforcement and Compliance.

Appendix

List of Topics Discussed in the Preliminary Decision Memorandum

I. Summary

II. Background

III. Scope of the Order

IV. Companies Not Selected For Individual Examination

V. Discussion of the Methodology

VI. Currency Conversion

VII. Recommendation

[FR Doc. 2022-28172 Filed 12-27-22; 8:45 am]

BILLING CODE 3510-DS-P